DEPARTMENT OF TRANSPORTATION

National Highway Traffic Safety Administration

Discretionary Cooperative Agreements With Community-Based Organizations To Support Seat Belt and Child Safety Seat Use Among Sport Utility Vehicle Occupants

AGENCY: National Highway Traffic Safety Administration (NHTSA), DOT.

ACTION: Announcement of Discretionary Cooperative Demonstration Projects in conjunction with the Buckle Up America Campaign to increase seat belt and child restraint education and use among occupants of sport utility vehicles.

SUMMARY: The National Highway Traffic Safety Administration (NHTSA) announces a cooperative agreement program to provide funding to two communities in support of the Buckle Up America (BUA) campaign. The goal of this campaign is to increase the national seat belt use rate from 71 percent (November 2000) to 90 percent by 2005. NHTSA solicits applications from community-based organizations or coalitions interested in developing and implementing a community demonstration project characterized by a public information and education program coupled with highly visible law enforcement efforts designed to increase seat belt and child restraint use among occupants of sport utility vehicles (SUVs). Community-based organizations or coalitions of community organizations, state and local government agencies and non-profit organizations that promote injury prevention and safety programs are encouraged to apply.

DATES: Applications must be received by the office designated below on or before 2 p.m. on Wednesday, August 1, 2001.

ADDRESSES: Applications must be submitted to the National Highway Traffic Safety Administration, Office of Contracts and Procurement (NAD-30), ATTN: Dianne Proctor, 400 7th Street, SW., Room 5301, Washington, DC 20590. All applications submitted must include a reference to NHTSA Cooperative Agreement Program No. DTNH22-01-H-05257.

FOR FURTHER INFORMATION CONTACT: General administrative questions may be directed to Dianne Proctor, Office of Contracts and Procurement, by e-mail at dproctor@nhtsa.dot.gov, or by phone at (202) 366-9562. Programmatic questions should be directed to Dr. Joseph Tonning, Occupant Protection Division, NHTSA (NTS-12), 400 7th Street, SW., Washington DC 20590, by e-mail at jtonning@nhtsa.dot.gov, or by phone at (202) 366-2695. Interested applicants are advised that no separate application package exists beyond the contents of this announcement.

SUPPLEMENTARY INFORMATION:

Background

In April 1997, the Buckle Up America (BUA) Campaign was established to increase the seat belt and child safety seat use rate nationwide. The current goals of the campaign are to increase the national seat belt use rate to 90 percent and to reduce the number of child occupant fatalities (0-4 years of age) by 25 percent (using 653 fatalities in 1996 as a baseline) by 2005. Traffic crashes are the single leading cause of death for Americans 1-24 years old and the third leading cause of death for Americans 25-44 years old. On average, every 13 minutes, someone in America dies in a traffic crash; every 10 seconds, someone is injured. Each year, these crashes result in $150 billion in economic costs, including $17 billion in medical care and emergency services expenses and $107 billion in lost productivity and property loss. The BUA Campaign advocates a four-part strategy: (1) Building public-private partnerships; (2) enacting strong legislation; (3) maintaining high visibility enforcement; and (4) conducting effective public education. Central to the campaign's success is the implementation of two major law enforcement mobilizations each year. These mobilizations, known as Operation ABC: America Buckles Up Children, are held in conjunction with the Air Bag & Seat Belt Safety Campaign in May and November, during the Memorial Day and Thanksgiving Day holidays.

Of the 32,061 vehicle occupant fatalities that occurred in 1999 in passenger cars and light trucks, 3,016 (9 percent) occurred in sport utility vehicles (SUVs). Concerns about the safety of SUVs have been publicized for several years. These concerns mainly deal with the increased propensity for rollover crashes in SUVs. Most SUVs have a higher center of gravity (due to a higher ground clearance) than other vehicle types. This higher center of gravity makes SUVs more likely to roll over. According to a 1998 NHTSA report, SUVs are twice as likely to roll over in a crash than passenger cars. Crash data in 1999 show that rollovers occurred in 37.8 percent of SUV crashes involving fatalities, compared to 25.7 percent of fatal pickup truck crashes and 18.6 percent of fatal van crashes. Among various vehicle types, passenger cars had the lowest rollover occurrence in fatal crashes: 15.8 percent.

Not only do SUVs have a higher rollover rate compared to passenger cars, SUVs also have a higher fatality rate in these rollover crashes. Sixty-three percent of SUV occupants killed in 1999 died when their vehicle rolled over, compared to 23 percent of passenger car occupants when their vehicle rolled over. Moreover, rollover deaths among passenger car occupants decreased between 1999 and 2000, but rollover deaths among occupants of SUVs increased 2.8 percent from 1,898 in 1999 to 1,951 in 2000. Light trucks (such as SUVs) also have a higher ejection rate in crashes compared to other vehicle types. NHTSA data from 1996-99 show that, for fatal crashes, the ejection rate for occupants of light trucks is twice that for occupants of passenger cars. Many fatalities seen among SUV occupants could have been prevented had more of these occupants been restrained in seat belts or age-appropriate child safety seats. Of the 3,016 SUV occupants who died in 1999, two-thirds (1,997) were completely unrestrained.

A 2000 NHTSA report found that for occupants of light trucks, lap/shoulder seat belts, when used, reduce the risk of fatal injury by 60 percent and moderate-to-critical injury by 65 percent. Seat belts are even more effective in reducing fatalities in rollover crashes: this same report estimates that seat belts, when used, are 80 percent effective in decreasing fatalities in these crashes. Rollover crashes claimed the lives of 1,898 SUV occupants in 1999—almost two-thirds of all SUV occupant fatalities that year. Despite the effectiveness of seat belts in reducing fatalities and injuries, however, the national seat belt use rate among occupants in the front seating positions of SUVs/vans in November 2000 was only 74 percent. This rate of seat belt use varies significantly among geographical regions: 82 percent in the West, 72 percent in the South, 71 percent in the Northeast, and 70 percent in the Midwest.

A 1998 survey revealed some demographic information about SUV purchasers/leasers. The average SUV customer is male (64 percent), married (76 percent), aged 45 years, in a household with an income of $94,400, and the head of the household (84 percent). A 1998 NHTSA telephone survey indicated that 67 percent of SUV owners surveyed had completed at least some college. Although the primary SUV customer is male, women are beginning to enter the SUV market because of their perception that SUVs are safer and provide better visibility. Owners of minivans and SUVs are more likely to have children than owners of any other automotive category.

Occupants of SUVs historically have had relatively high rates of seat belt use, compared to occupants of other vehicle types. However, increasing seat belt use among SUV occupants is important because SUVs are an increasingly popular form of transportation in America. The SUV market accounted for 7 percent of vehicle sales in 1990, compared to 19 percent in 1999, and is expected to continue as one of the fastest growing segments of the motor vehicle industry. The growth in SUV sales, the increased rollover risk, and the higher likelihood of children being transported in these vehicles all lend support to the importance of this initiative in helping to meet the goals of the BUA Campaign.

Objectives

To help achieve the goals of the BUA Campaign, NHTSA is planning two cooperative demonstration projects designed to increase seat belt and child restraint use among owners and occupants of SUVs. Cooperative Agreements will be awarded in two geographically separate communities for this purpose. Each project will consist of a two-part strategy of public information and education supported by a highly visible law enforcement component. The objective of increasing restraint use and decreasing fatalities and injuries of SUV occupants will be met by:

1. Developing and Implementing a Community-Wide Public Information and Education Campaign. The cooperative agreement recipient will be expected to coordinate an intense, community-wide public information and education campaign that focuses on the effectiveness of seat belts and child safety seats in preventing deaths and injuries in motor vehicle crashes. This campaign should convey the importance of being properly restrained whenever riding in any vehicle, but the need for SUV occupants to be properly restrained at all times shall be given special emphasis due to the increased risk of rollover crashes in SUVs. A major element of this campaign will be that motorists must adhere to their State's seat belt and child passenger safety laws to avoid receiving a traffic citation. The public information and education campaign should also contain messages regarding safe driving techniques for SUVs to avoid rollover crashes and should discuss factors (such as sharp curves or adverse weather conditions) which can increase the chances of a rollover crash. The recipient will be expected to form partnerships with representatives in educational, judicial, law enforcement, public health, and media agencies and organizations within the community to disseminate these campaign messages. Additional partnerships with local business, medical, and emergency services communities should also be developed. Such agencies and organizations can then work within their respective professional areas to provide education and generate support for the campaign. Partnerships should also be established with organizations representing diverse populations within the community. All public information and education materials and campaign messages must be approved by NHTSA's Contracting Officer's Technical Representative (COTR) prior to release. For more information on effective public information and education campaigns to increase seat belt use, visit http://www.nhtsa.dot.gov/people/injury/airbags/buckleplan/cases/NorthCarolina.html.

2. Periodic “Waves” of High Visibility Enforcement. In addition to the community-based public information and education campaign described above, a plan that emphasizes periodic waves of high visibility enforcement of seat belt and child restraint laws will be developed. Indeed, strong, highly visible enforcement of restraint laws by local agencies will be at the core of this demonstration project to increase seat belt and child restraint use. No State has ever achieved a high seat belt or child restraint use without strong enforcement of such laws. To forge such a plan, this cooperative demonstration project should seek assistance from the Governor's SHSA representative, State police, and local law enforcement officials in the demonstration community. Enforcement activities shall focus on increasing restraint use among occupants of all vehicle types. It should be emphasized that, during enforcement waves and throughout this program, SUVs shall not be targeted for restraint use violations more than other vehicle types. However, law enforcement personnel will also be informed about the increased risk of rollover crashes in SUVs and the effectiveness of restraints in preventing deaths and injuries and, as a result of the public information and education campaign, law enforcement officers will be better able to give a rationale for a traffic stop when SUV occupants are not restrained. During such stops, law enforcement officers can (1) reiterate the 80 percent effectiveness of seat belts in reducing fatalities in SUV rollover crashes and (2) remind SUV drivers of safe driving techniques to avoid rollover crashes. Enforcement activities shall include, but shall not be limited to, participation in the national Operation ABC Mobilizations held each May and November. The case for conducting highly visible enforcement is well documented. The increase in Canada's seat belt use rate, after well-publicized enforcement efforts, is an excellent example of enforcement success: in July 2000, the seat belt use among drivers of passenger cars in Canada was 92.2 percent.

NHTSA Involvement

NHTSA will be involved in all activities undertaken as part of the cooperative agreement program and will:

1. Provide a Contracting Officer's Technical Representative (COTR) to participate in the planning and administration of the cooperative agreements and to approve all campaign and public information materials prior to release;

2. Provide information and technical assistance from government sources, within available resources and as determined appropriate by the COTR;

3. Act as a liaison between the cooperative agreement recipients and with other government and private agencies as appropriate; and

4. Stimulate the exchange of ideas and information among the cooperative agreement recipients through periodic meetings.

Availability of Funds and Period of Support

It is anticipated that two cooperative agreements will be awarded for a period of 24 months. The application should address what is proposed and can be accomplished during this period which includes evaluation and preparation of the final report. Funding will be in the amount of $350,000 for each demonstration, with $75,000 provided in fiscal year 2001 for each demonstration and the remaining $275,000 for each demonstration to be provided in fiscal year 2002, subject to the availability of funds. NHTSA estimates that the award of the two cooperative agreements will occur by September 30, 2001.

Federal monies allocated for cooperative agreements are not intended to cover all of the costs that will be incurred in the process of completing a demonstration project. Therefore, applicants should describe their commitment of financial and/or in-kind resources that will be used to complete their proposed demonstration project. Allowable uses of federal funds shall be governed by the applicable federal cost principles.

Eligibility Requirements

In order to be eligible to participate in this cooperative agreement program, an applicant must be an agency or organization poised to conduct a community-wide public information and education campaign and to participate in or coordinate law enforcement mobilizations designed to increase seat belt and child restraint use. Community-based coalitions or organizations that promote injury prevention, especially traffic safety may apply. Such community coalitions/organizations include, but are not limited to: law enforcement agencies, public health and safety organizations, education organizations, media groups, organizations representing diverse populations, local private-sector organizations, and non-profit organizations. Applicants must represent a demonstration community with a population of at least 200,000 but not exceeding 600,000 based upon Census 2000 data of the U.S. Census Bureau.

Application Procedure

Each applicant must submit one original and two copies of their application package to: NHTSA, Office of Contracts and Procurement (NAD-30), ATTN: Dianne Proctor, 400 7th Street, SW., Room 5301, Washington, D.C. 20590. Submission of four additional copies will expedite processing, but is not required. Applications must be typed on one side of the page only. Applications must include a reference to NHTSA Cooperative Agreement Program No. DTNH22-01-H-05257. Only complete application packages received on or before 2:00 p.m. on Wednesday, August 1, 2001 will be considered.

Application Contents

1. The application package must be submitted with OMB Standard Form 424 (Rev. 7-97), Application for Federal Assistance, including 424A, Budget Information—Nonconstruction Program, and 424B Assurances—Nonconstruction Programs, with the required information filled in and the certified assurances included. The OMB Standard Forms SF-424, SF-242A and SF424B may be downloaded directly from the OMB website at http://www.whitehouse.gov/omb/grants/. While the Form 424-A deals with budget information, and Section B identifies Budget Categories, the available space does not permit a level of detail which is sufficient to provide for a meaningful evaluation of the proposed costs. A supplemental sheet should be provided which presents a detailed breakdown of the proposed costs (direct labor, including labor categories, level of effort and rate; direct material, including itemized equipment; travel and transportation, including projected trips and number of people traveling; subcontracts/subgrants with similar cost detail, if known; and overhead costs), as well as any resources which the applicant and/or other coalition participant proposes to contribute in support of this effort. The budget should be a two-year plan.

2. The application package must also include a program narrative statement which does not exceed 25 pages, excluding letters of endorsement and resumes, and which addresses the following:

a. A description of the demonstration community which includes demographic information and a description of law enforcement agencies that have traffic enforcement jurisdiction in the community. The proportion of SUVs in the demonstration community in relation to other vehicle types (pickup trucks, passenger cars, and minivans) in that community should be provided based on data regarding the number of registered vehicles in the community.

b. A detailed explanation of the proposed plan to develop and conduct a community-wide public information and education campaign regarding the extreme importance of seat belt use among occupants of all vehicle types, but especially among SUV occupants. The plan shall identify strategies for participation in Operation ABC Mobilizations and plans to conduct waves of highly publicized seat belt and child passenger safety enforcement. A description of efforts to address training needs (i.e., differential enforcement or diversity sensitivity) should be included; such knowledge would help law enforcement officers in partnering with the community when the demonstration project is underway. This section shall include a list of project activities in chronological order to show the schedule or planned accomplishments and their target dates. The applicant shall identify the various participating community agencies/organizations and their involvement in the demonstration project. Letters of support from participating community partners shall be included. Documentation of existing public and/or political support must be included (e.g., endorsement of applicable law enforcement agencies, community health organizations, Mayor or other chief executive officer, etc.). In addition, a letter demonstrating support and coordination with State plans must be provided by the Governor's Representative or his/her designee in the State Highway Safety Agency (SHSA).

c. An evaluation section which describes how the recipient will evaluate and measure the project activities and outcomes. Increases in observed seat belt and child safety seat use among SUV occupants are the ultimate measures of success. However, evaluation of the specific elements of the public education and information component and law enforcement component of the program should be performed to provide an assessment of the program's effectiveness.

(1) Data for measuring the activities and effectiveness of the public information and education campaign include, but are not limited to: (i) Level of earned media coverage; (ii) level of paid media coverage, and (iii) results of pre- and post-program surveys (on-site or telephonic) regarding awareness of occupant restraint issues, especially those for SUV occupants. Data sources should be identified and collection and analysis approaches should be described. Sample data collection forms and instructions (in-person, telephone, and seat belt observation survey forms) are available from NHTSA that can be customized by the recipient. A booklet entitled Achieving a High Seat Belt Use Rate: A Guide for Selective Traffic Enforcement Programs is available at http://www.nhtsa.dot.gov/people/injury/research/index.html.

(2) Data for measuring the activities and effectiveness of law enforcement efforts include, but are not limited to: (i) The number of seat belt and child safety seat citations issued; (ii) the number of officer hours or special enforcement efforts during the mobilization or enforcement periods, DWI arrests, and other non traffic related crimes; (iii) increases in the number of law enforcement personnel trained to enforce occupant protection laws; (iv) community participation in Operation ABC Mobilizations; (v) increased perception of ongoing enforcement and public education activities (may be obtained from the on-site or telephone surveys conducted to measure effectiveness of the PI&E campaign in the preceding paragraph); (vi) incentive programs to complement enforcement efforts, and (vii) pre- and post-program observational seat belt surveys. Data sources should be identified and collection and analysis approaches should be described.

d. A detailed description of the applicant's previous involvement in community-based coalitions to promote injury prevention and especially traffic safety in the past and how this experience will assist the applicant in the demonstration project. The applicant should describe any prior media campaigns and/or work with media professionals in conducting public outreach, as well as any past participation in highly publicized enforcement or participation in Operation ABC Mobilizations. Prior experience in working with educational, judicial, law enforcement, and public health and safety organizations within the community should be described, as well as partnerships with organizations representing diverse populations within the community.

e. A personnel section which identifies the proposed project coordinator and other key personnel necessary to perform the public information campaign, enforcement activities and evaluation component shall be provided. This section shall include a description of their qualifications, the nature of their contribution, their respective organizational responsibilities, and the proposed level of their effort.

Review Process and Criteria

Initially, each application will be reviewed to confirm that the applicant meets the eligibility requirements and that the application contains all of the information required by the Application Contents section of this notice. Each complete application from an eligible applicant will then be evaluated by a NHTSA Technical Evaluation Committee. The applications will be evaluated using the following criteria:

1. Project Plan: The overall soundness and feasibility of the demonstration community project plan and the potential effectiveness of the described public information and education campaign and highly visible law enforcement activities to increase seat belt and child safety seat use among occupants of sport utility vehicles (SUVs) (50 percent).

2. The applicant's planned partnerships with other community agencies/organizations promotes the requisite participation among those groups considered necessary to conduct an effective community demonstration project. In addition, the applicant's prior successful experience with community-based coalitions demonstrates the necessary organizational skills to effectively coordinate the proposed project (30 percent).

3. The proposed personnel resources demonstrate effective project coordination capability and the requisite breadth of expertise to successfully perform the described activities that will result in increasing seat belt and child safety seat use among occupants of sport utility vehicles (SUVs) (20 percent).

Terms and Conditions of Award

1. Prior to award, the recipients must comply with the certification requirements of 49 CFR part 20, Department of Transportation New Restriction on Lobbying, and 49 CFR part 29, Department of Transportation Government-wide Debarment and Suspension (Nonprocurement) and Government-wide Requirements for Drug-Free Workplace (Grants).

2. During the effective period of the cooperative agreements awarded as a result of this Notice, the agreements shall be subject to NHTSA's General Provisions for Assistance Agreements (7/95).

3. Reporting Requirements and Deliverables

a. Quarterly Reports, which shall be due 15 days after the end of each quarter, shall be submitted to document project efforts and results. The reports should include up-to-date information summarizing accomplishments during the quarter including: data gathered to-date (such as earned and paid media events, observation and awareness surveys, and enforcement data); obstacles or problems encountered and proposed solutions; noteworthy activities, events or successes; and funds and in-kind contributions expended to date. The quarterly reports will form the basis for the final report to disseminate the lessons learned and successes of the recipient. The COTR will approve invoices upon receipt of each quarterly report.

b. Draft Final Report: The recipient shall prepare a draft Final Report that includes a complete description of the overall project implementation, including a project time-line; the activities conducted, including partners; data collection efforts; evaluation methodology; and findings from the program evaluation. In terms of information transfer, it is important to know what worked and what did not work, under what circumstances, and what can be done to avoid potential problems in future projects. The report should provide information that will be helpful in assembling a “Best Practices” guide for use by other communities. The grantee shall submit the draft Final Report to the COTR 60 days prior to the end of the performance period. The COTR will review the draft report and provide comments to the grantee within 30 days of receipt of the document.

c. Final Report: The grantee shall revise the draft Final Report to reflect the COTR's comments. The revised final report shall be delivered to the COTR 15 days before the end of the performance period. For the final report, the Grantee shall supply the COTR:

—A camera ready version of the document as printed.

—A copy, on appropriate media (diskette, Syquest disk, etc.), of the document in the original program format that was used for the printing process.

Note: Some documents require several different original program languages (e.g., PageMaker was the program format for the general layout and design and Power Point was used for charts and yet another was used for photographs, etc.). Each of these component parts should be available on disk, properly labeled with the program format and the file names. For example, Power Point files should be clearly identified by both a descriptive name and file name (e.g., 1994 Fatalities—chart1.ppt).

—A complete version of the assembled document in portable document format (PDF) for placement of the report on the world wide web (WWW). This will be a file usually created with the Adobe Exchange program of the complete assembled document in the PDF format that will actually be placed on the WWW. The document would be completely assembled with all colors, charts, side bars, photographs, and graphics. This can be delivered to NHTSA on a standard 1.44 diskette (for small documents) or on any appropriate archival media (for large documents) such as a CD ROM, TR-1 Mini cartridge, Syquest disk, etc.

—Four additional hard copies of the final document.

d. The recipients may be requested to conduct an oral presentation of their respective project activities for the COTR and other interested NHTSA personnel. For planning purposes, assume that these presentations will be conducted at the NHTSA Office of Traffic and Injury Control Programs, Washington, D.C. An original and three copies of briefing materials shall be submitted to the COTR.

Issued on: June 21, 2001.
Susan Gorcowski,
Acting Associate Administrator for Traffic Safety Programs.

[FR Doc. 01-16040 Filed 6-26-01; 8:45 am]

BILLING CODE 4910-59-P